DEPARTMENT OF DEFENSE

Office of the Secretary

[Docket ID: DOD-2009-OS-0119]

Privacy Act of 1974; Notice of a Computer Matching Program

AGENCY: Defense Manpower Data Center, DoD.

ACTION: Notice of a computer matching program; correction.

SUMMARY: The Department of Defense published an announcement of a computer matching program on August 7, 2009 (74 FR 39647-39649). This notice is being published to correct the first paragraph of the SUPPLEMENTARY INFORMATION section that describes the purpose of the computer matching agreement. All other information remains the same.

ADDRESSES: Any interested party may submit written comments to the Director, Defense Privacy Office, 1901 South Bell Street, Suite 920, Arlington, VA 22202-4512.

FOR FURTHER INFORMATION CONTACT: Mr. Samuel P. Jenkins at telephone (703) 607-2943.

SUPPLEMENTARY INFORMATION: The first paragraph in the previous notice's SUPPLEMENTARY INFORMATION section is corrected to read as follows:

“Pursuant to subsection (o) of the Privacy Act of 1974, as amended, (5 U.S.C. 552a), the DMDC and VA have concluded an agreement to conduct a computer matching program between the agencies.

The purpose of this agreement is to verify eligibility for DoD/USCG members of the Reserve forces who receive VA disability compensation or pension to also receive military pay and allowances when performing reserve duty.”

Dated: October 8, 2009.
Patricia L. Toppings,
OSD Federal Register Liaison Officer, Department of Defense.

[FR Doc. E9-24887 Filed 10-15-09; 8:45 am]

BILLING CODE 5001-06-P